DEPARTMENT OF TRANSPORTATION

Federal Highway Administration

Environmental Impact Statement: Madison County, Illinois

AGENCY: Federal Highway Administration (FHWA), DOT.

ACTION: Notice to rescind a notice of intent to prepare an environmental impact statement.

SUMMARY: The FHWA is issuing this notice to advise the public that an environmental impact statement will not be prepared for a proposed transportation project in Alton and Godfrey, Illinois in an area bounded roughly by IL Route 3 on the south; Seminary Road on the east; Seiler Road on the north and US 67 on the west.

FOR FURTHER INFORMATION CONTACT: Catherine A. Batey, Division Administrator, Federal Highway Administration, 3250 Executive Park Drive, Springfield, Illinois 62703, Phone: (217) 492-4600. Jeffrey L. Keirn, Deputy Director of Highways, Region 5 Engineer, Illinois Department of Transportation, 1102 Eastport Plaza Drive, Collinsville, Illinois 62234, Phone: (618) 346-3110.

SUPPLEMENTARY INFORMATION: The FHWA, in cooperation with the Illinois Department of Transportation, issued a notice of intent to prepare an environmental impact statement (EIS) in 2012 (77 FR 25782, May 1, 2012). The project proposal was to improve transportation flow, safety and connectivity in Alton and Godfrey, Illinois.

Due to concerns raised by project stakeholders and partners, including project costs, displacements of homes, and a lack of public support, FHWA is rescinding the Notice of Intent to prepare an EIS.

Comments or questions concerning this notice should be directed to FHWA or the Illinois Department of Transportation at the addresses provided above.

Authority: 23 U.S.C. 315; 23 CFR 771.123; 49 CFR 1.48.

(Catalog of Federal Domestic Assistance Program Number 20.205, Highway Research, Planning and Construction. The regulations implementing Executive Order 12372 regarding intergovernmental consultation on Federal programs and activities apply to this program.)

Issued on: February 27, 2017.
Catherine A. Batey,
Division Administrator, Springfield, Illinois.

[FR Doc. 2017-05135 Filed 3-14-17; 8:45 am]

BILLING CODE 4910-22-P